DEPARTMENT OF THE INTERIOR

National Park Service

[N6771; NPS-WASO-NAGPRA-NPS0041538; PPWOCRADN0-PCU00RP14.R50000]

Notice of Intended Repatriation: James B. and Rosalyn L. Pick Museum of Anthropology at Northern Illinois University, DeKalb, IL

AGENCY: National Park Service, Interior.

ACTION: Notice.

SUMMARY: In accordance with the Native American Graves Protection and Repatriation Act (NAGPRA), the James B. and Rosalyn L. Pick Museum of Anthropology at Northern Illinois University (Pick Museum) intends to repatriate certain cultural items that meet the definition of sacred objects and that have a cultural affiliation with the Indian Tribes or Native Hawaiian organizations in this notice.

DATES: Repatriation of the cultural items in this notice may occur on or after January 20, 2026.

ADDRESSES: Send additional, written requests for repatriation of the cultural items in this notice to Margaret Alway, James B. and Rosalyn L. Pick Museum of Anthropology at Northern Illinois University, 1425 W Lincoln Hwy., DeKalb, IL 60015, email malway@niu.edu.

SUPPLEMENTARY INFORMATION: This notice is published as part of the National Park Service's administrative responsibilities under NAGPRA. The determinations in this notice are the sole responsibility of the Pick Museum, and additional information on the determinations in this notice, including the results of consultation, can be found in the summary or related records. The National Park Service is not responsible for the determinations in this notice.

Abstract of Information Available

A total of 13 cultural items have been requested for repatriation. The 13 sacred objects/objects of cultural patrimony are medicine bundles (catalog nos. 72-11-2 to 72-11-13), known as jish, and a shield (catalog no. 69-35-24). The shield was purchased in 1969 by staff of the Pick Museum from Don Watson's Indian Trading Post in Cortez, Colorado. The medicine bundles were purchased by staff of the Pick Museum in 1972 from Littrell's Kiva Trading Post in Aztec, New Mexico. The Pick Museum recorded the items as Navajo.

Determinations

The Pick Museum has determined that:

• The 13 sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a connection between the cultural items described in this notice and the Navajo Nation, Arizona, New Mexico, & Utah.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the Pick Museum must determine the most appropriate requestor prior to repatriation. Requests for joint repatriation of the cultural items are considered a single request and not competing requests. The Pick Museum is responsible for sending a copy of this notice to the Indian Tribes and Native Hawaiian organizations identified in this notice and to any other consulting parties.

Authority: Native American Graves Protection and Repatriation Act, 25 U.S.C. 3004 and the implementing regulations, 43 CFR 10.9.

Dated: December 4, 2025.
Melanie O'Brien,
Manager, National NAGPRA Program.

[FR Doc. 2025-23344 Filed 12-18-25; 8:45 am]

BILLING CODE 4312-52-P